DEPARTMENT OF HOUSING AND URBAN DEVELOPMENT

[Docket No. FR-5182-N-01]

Section 8 Housing Assistance Payments Program—Contract Rent Annual Adjustment Factors, Fiscal Year 2008

AGENCY: Office of the Secretary, HUD.

ACTION: Notice of Revised Contract Rent Annual Adjustment Factors.

SUMMARY: This notice announces revised Annual Adjustment Factors (AAFs) that are applied to Section 8 contract rents for specific programs. These factors are applied at Housing Assistance Payment (HAP) contract anniversaries for those calendar months commencing after the effective date of this notice. The AAFs are based on residential rent and utilities time-series cost indices from the Bureau of Labor Statistics Consumer Price Index (CPI) surveys.

DATES: Effective Date: January 22, 2008.

FOR FURTHER INFORMATION: David Vargas, Senior Advisor, Housing Voucher Management and Operations Division, Office of Public Housing and Voucher Programs, (202) 708-0477 can respond to questions relating to the Section 8 Voucher, Certificate, and Moderate Rehabilitation programs; Mark Johnston, Office of Special Needs Assistance Programs, Office of Community Planning and Development, (202) 708-1234 for questions regarding the Single Room Occupancy Moderate Rehabilitation program; Willie Spearmon, Director, Office of Housing Assistance and Grant Administration, Office of Housing, (202) 708-3000, for questions relating to all other Section 8 programs. Marie L. Lihn, Economic and Market Analysis Division, Office of Policy Development and Research (202) 708-0590, is the contact for technical information regarding the development of the factors for specific areas or the methods used for calculating the AAFs. Mailing address for above persons: Department of Housing and Urban Development, 451 Seventh Street, SW., Washington, DC 20410. Hearing- or speech-impaired persons may contact the Federal Information Relay Service at (800) 877-8339 (TTY). (Other than the “800” TTY number, the above-listed telephone numbers are not toll-free.)

SUPPLEMENTARY INFORMATION: In addition to being published in the Federal Register, these data will be available electronically from the HUD data information page: http://www.huduser.org/datasets/aaf.html.

I. Methodology

AAFs are calculated using CPI data on rents and utilities for all metropolitan areas that are specifically surveyed for the CPI. AAFs for other areas use the more general CPI for rents and utilities calculated for the four Census Regions, Northeast, South, Midwest, and West. AAFs are rent change factors. Two types of AAFs are calculated. One type is a gross rent change factor that should be used when the primary utility (normally heating) is included in the rent. The other type is a shelter rent (i.e., rents without utilities) factor that should be used when the primary utility is not included in rent. In the past, decennial census data were used to establish the relationship between gross rents and shelter rents. This relationship was updated each year based on census data revealing the percentage of renters paying for heat by area. This update process is no longer necessary. Beginning with the fiscal year (FY) 2008 AAFs, the American Community Survey (ACS) data was used to re-establish the relationship between gross rents and shelter rents. Each year annual ACS data will be used to revise this relationship. The annual ACS data, however, only provides coverage for large metropolitan areas, those with a population of more than 65,000.¹

¹ Three nonmetropolitan counties that did not have American Community Survey data, but are included under the old area definitions of the Consumer Price Index (CPI), will have to use regional CPI data. These Counties are Hood County, Texas; Culpeper County, Virginia; and King George County, Virginia.

CPI Surveys

For specific metropolitan areas where CPI surveys are conducted, changes in the shelter rent and utilities components are calculated based on the most recent CPI annual average change data. In this publication, the rent and utility CPIs for metropolitan areas are based on changes in the index from 2005 to 2006. The “Highest Cost Utility Included” column in Schedule C is calculated by weighting the rent and utility change factors using the corresponding components of gross rent in a particular area as calculated in the 2005 ACS. The “Highest Cost Utility Excluded” column in Schedule C is calculated by eliminating the utility portion of the gross rent change factor.

For areas not covered by a specific metropolitan CPI surveys, HUD uses the CPI surveys for the Northeast, South, Midwest, or West region, as appropriate. Rent and utility change factors are calculated from 2005 to 2006. For areas assigned Census Region CPI factors, both metropolitan and non-metropolitan areas received the same factor.

Geographic Areas

Each metropolitan area or county that uses local CPI update factors is listed alphabetically in the tables, by state and according to the metropolitan area where appropriate. Each AAF applies to a specified geographic area and to units of all bedroom sizes. AAFs are provided:

• For separate metropolitan areas, including counties that are currently designated as non-metropolitan, but are part of the metropolitan area defined in the local CPI survey.

• For the four Census Regions for those metropolitan and non-metropolitan areas that are not covered by the local CPI surveys.

The AAFs shown in Schedule C use the same Office of Management and Budget (OMB) metropolitan area definitions, as revised by HUD, that are used in the FY2008 Fair Market Rents.

Area Definitions in Schedule C

To make certain that they are using the correct AAFs, users should refer to the area definitions section at the end of Schedule C. For units located in metropolitan areas with a local CPI survey, AAFs are listed separately. For units located in areas without a local CPI survey, the metropolitan or nonmetropolitan counties receive the regional CPI for that Census Region.

The AAF area definitions shown in Schedule C are listed in alphabetical order by state. The associated CPI division is shown next to each state name. Areas whose AAFs are determined by local CPI surveys are listed first. All metropolitan areas with local CPI surveys have separate AAF schedules and are shown with their corresponding county definitions or as metropolitan counties. In the six New England states, the listings are for counties or parts of counties as defined by towns or cities. The remaining counties use the CPI for the Census Region and are not specifically listed on Schedule C or the area file.

Puerto Rico and the Virgin Islands use the South Region AAFs. All areas in Hawaii use the AAFs identified in the Table as “STATE: Hawaii,” which are based on the CPI survey for the Honolulu metropolitan area. The Pacific Islands use the West Region AAFs.

II. Applying AAFs to Various Section 8 Programs

AAFs established by this notice are used to adjust contract rents for units assisted in certain Section 8 housing assistance payments programs during the initial (i.e., pre-renewal) term of the HAP contract. Three categories of Section 8 programs use the AAFs:

Category 1—The Section 8 New Construction and Substantial Rehabilitation programs and the Section 8 Moderate Rehabilitation program.

Category 2—The Section 8 Loan Management (LM) and Property Disposition (PD) programs.

Category 3—The Section 8 Project-based Certificate (PBC) program.

Each Section 8 program category uses the AAFs differently. The specific HAP contract, program regulation, program requirement, or law determines the application of the AAFs. Restrictions to the use of AAF are discussed below:

Renewal Rents. AAFs are not used to determine renewal rents after expiration of the original Section 8 HAP contract (either for projects where the Section 8 HAP contract is renewed under a restructuring plan adopted under 24 CFR part 401; or renewed without restructuring under 24 CFR part 402). In general, renewal rents are determined by applying a state-by-state operating cost adjustment factor (OCAF) published by HUD.

Budget-based Rents. AAFs are not used for budget-based rent adjustments. For projects receiving Section 8 subsidies under the LM program (24 CFR part 886, subpart A) or under the PD program (24 CFR part 886, subpart C), contract rents are adjusted, at HUD's option, either by applying the AAFs, or by budget-based adjustments in accordance with 24 CFR 886.112 and 24 CFR 886.132. Budget-based adjustments are used for most Section 8/202 projects.

Certificate Program. In the past, AAFs were used to adjust the contract rent (including manufactured home space rentals) in both the tenant-based and project-based certificate programs. The tenant-based certificate program has been terminated and all tenancies in the tenant-based certificate program have been converted to the Housing Choice Voucher Program, which does not use AAFs to adjust rents. All tenancies remaining in the project-based certificate program continue to use AAFs to adjust contract rent for outstanding HAP contracts.

Moderate Rehabilitation Program. Under the Section 8 Moderate Rehabilitation program (both the regular program and the single room occupancy program), the public housing agency (PHA) applies the AAF to the base rent component of the contract rent, not the full contract rent. For the other covered programs, the AAF is applied to the whole amount of the pre-adjustment contract rent.

III. Adjustment Procedures

This section of the notice provides a broad description of procedures for adjusting the contract rent. Technical details and requirements are described in HUD notices, issued by the Office of Housing and the Office of Public and Indian Housing.

Because of statutory and structural distinctions among the various Section 8 programs, there are separate rent adjustment procedures for the three program categories:

Category 1: Section 8 New Construction, Substantial Rehabilitation, and Moderate Rehabilitation Programs

In the Section 8 New Construction and Substantial Rehabilitation programs, the published AAF factor is applied to the pre-adjustment contract rent. In the Section 8 Moderate Rehabilitation program, the published AAF is applied to the pre-adjustment base rent.

For category 1 programs, the Table 1 AAF factor is applied before determining comparability (rent reasonableness). Comparability applies if the pre-adjustment gross rent (pre-adjustment contract rent plus any allowance for tenant-paid utilities) is above the published FMR.

If the comparable rent level (plus any initial difference) is lower than the contract rent as adjusted by application of the Table 1 AAF, the comparable rent level (plus any initial difference) will be the new contract rent. However, the pre-adjustment contract rent will not be decreased by application of comparability.

In all other cases (i.e., unless the contract rent is reduced by comparability):

• The Table 1 AAF is used for a unit occupied by a new family since the last annual contract anniversary.

• The Table 2 AAF is used for a unit occupied by the same family as at the time of the last annual contract anniversary.

Category 2: The Loan Management Program (24 CFR Part 886, Subpart A) and Property Disposition Program (24 CFR Part 886, Subpart C)

At this time, rent adjustment by the AAF in the Category 2 programs is not subject to comparability. (Comparability will again apply if HUD establishes regulations for conducting comparability studies under 42 U.S.C. 1437f(c)(2)(C).). Rents are adjusted by applying the full amount of the applicable AAF under this notice.

The applicable AAF is determined as follows:

• The Table 1 AAF is used for a unit occupied by a new family since the last annual contract anniversary.

• The Table 2 AAF is used for a unit occupied by the same family as at the time of the last annual contract anniversary.

Category 3: Section 8 Certificate Project-Based Certificate Program

The following procedures are used to adjust contract rent for outstanding HAP contracts in the Section 8 PBC program:

• The Table 2 AAF is always used. The Table 1 AAF is not used.

• The Table 2 AAF is always applied before determining comparability (rent reasonableness).

• Comparability always applies. If the comparable rent level is lower than the rent to owner (contract rent) as adjusted by application of the Table 2 AAF, the comparable rent level will be the new rent to owner.

IV. When To Use Reduced AAFs (From AAF Table 2)

In accordance with Section 8(c)(2)(A) of the United States Housing Act of 1937 (42 U.S.C. 1437f(c)(2)(A)), the AAF is reduced by 0.01:

• For all tenancies assisted in the Section 8 Project-Based Certificate program.

• In other Section 8 programs, for a unit occupied by the same family at the time of the last annual rent adjustment (and where the rent is not reduced by application of comparability (rent reasonableness)).

The law provides that:

Except for assistance under the certificate program, for any unit occupied by the same family at the time of the last annual rental adjustment, where the assistance contract provides for the adjustment of the maximum monthly rent by applying an annual adjustment factor and where the rent for a unit is otherwise eligible for an adjustment based on the full amount of the factor, 0.01 shall be subtracted from the amount of the factor, except that the factor shall not be reduced to less than 1.0. In the case of assistance under the certificate program, 0.01 shall be subtracted from the amount of the annual adjustment factor (except that the factor shall not be reduced to less than 1.0), and the adjusted rent shall not exceed the rent for a comparable unassisted unit of similar quality, type, and age in the market area. 42 U.S.C. 1437f(c)(2)(A).

To implement the law, HUD publishes two separate AAF Tables, contained in Schedule C, Tables 1 and 2 of this notice. The difference between Table 1 and Table 2 is that each AAF in Table 2 is 0.01 less than the corresponding AAF in Table 1. Where an AAF in Table 1 would otherwise be less than 1.0, it is set at 1.0, as required by statute; the corresponding AAF in Table 2 will also be set at 1.0, as required by statute.

V. How To Find the AAF

The AAFs are contained in Schedule C, Tables 1 and 2 of this notice. There are two columns in each table. The first column is used to adjust contract rent for units where the highest cost utility is included in the contract rent, i.e., where the owner pays for the highest cost utility. The second column is used where the highest cost utility is not included in the contract rent, i.e., where the tenant pays for the highest cost utility.

The applicable AAF is selected as follows:

• Determine whether Table 1 or Table 2 is applicable. In Table 1 or Table 2, locate the AAF for the geographic area where the contract unit is located.

• Determine whether the highest cost utility is or is not included in contract rent for the contract unit.

• If highest cost utility is included, select the AAF from the column for “highest cost included.” If highest cost utility is not included, select the AAF from the column for “utility excluded.”

Accordingly, HUD publishes these Annual Adjustment Factors for the Section 8 Housing Assistance Payments programs as set forth in the Tables.

Dated: January 14, 2008.
Darlene F. Williams,
Assistant Secretary for Policy Development and Research.

Schedule C—Table 1.—2008 Contract Rent AAFS
| Highest cost utility: Included | Highest cost utility: Excluded
Midwest Region | 1.020 | 1.010
Northeast Region | 1.048 | 1.028
South Region | 1.050 | 1.039
West Region | 1.045 | 1.037
Akron, OH MSA | 1.014 | 1.009
Anchorage, AK MSA | 1.038 | 1.020
Metropolitan Area Components:
Anchorage, AK HMFA
Matanuska-Susitna Borough, AK HMFA
Ann Arbor, MI MSA | 1.040 | 1.028
Ashtabula County, OH | 1.016 | 1.008
Atlanta-Sandy Springs-Marietta, GA MSA | 1.015 | 1.012
Metropolitan Area Components:
Atlanta-Sandy Springs-Marietta, GA HMFA
Butts County, GA HMFA
Haralson County, GA HMFA
Lamar County, GA HMFA
Meriwether County, GA HMFA
Atlantic City, NJ MSA | 1.056 | 1.031
Baltimore-Towson, MD MSA | 1.052 | 1.046
Metropolitan Area Components:
Baltimore-Towson, MD HMFA
Columbia City, MD HMFA
Boston-Cambridge-Quincy, MA-NH MSA | 1.033 | 1.004
Metropolitan Area Components:
Boston-Cambridge-Quincy, MA-NH HMFA
Brockton, MA HMFA
Lawrence, MA-NH HMFA
Lowell, MA HMFA
Portsmouth-Rochester, NH HMFA
Western Rockingham County, NH HMFA
Boulder, CO MSA | 1.001 | 1.004
Bremerton-Silverdale, WA MSA | 1.044 | 1.041
Bridgeport-Stamford-Norwalk, CT MSA | 1.054 | 1.048
Metropolitan Area Components:
Bridgeport, CT HMFA
Danbury, CT HMFA
Stamford-Norwalk, CT HMFA
Chicago-Naperville-Joliet, IL-IN-WI MSA | 1.014 | 1.026
Metropolitan Area Components:
Chicago-Naperville-Joliet, IL HMFA
DeKalb County, IL HMFA
Gary, IN HMFA
Grundy County, IL HMFA
Jasper County, IN HMFA
Kendall County, IL HMFA
Kenosha County, WI HMFA
Cincinnati-Middletown, OH-KY-IN MSA | 1.057 | 1.027
Metropolitan Area Components:
Brown County, OH HMFA
Cincinnati-Middleton, OH-KY-IN HMFA
Grant County, KY HMFA
Cleveland-Elyria-Mentor, OH MSA | 1.014 | 1.009
Dallas-Fort Worth-Arlington, TX MSA | 1.037 | 1.015
Metropolitan Area Components:
Dallas, TX HMFA
Fort Worth-Arlington, TX HMFA
Wise County, TX HMFA
Denver-Aurora, CO MSA | 1.000 | 1.004
Detroit-Warren-Livonia, MI MSA | 1.043 | 1.026
Metropolitan Area Components:
Detroit-Warren-Livonia, MI HMFA
Livingston County, MI HMFA
Flint, MI MSA | 1.048 | 1.025
Greeley, CO MSA | 1.000 | 1.004
HAWAII | 1.105 | 1.102
Hagerstown-Martinsburg, MD-WV MSA | 1.053 | 1.046
Metropolitan Area Components:
Hagerstown, MD HMFA
Martinsburg, WV HMFA
Henderson County, TX | 1.047 | 1.014
Houston-Sugar Land-Baytown, TX MSA | 1.062 | 1.014
Metropolitan Area Components:
Austin County, TX HMFA
Brazoria County, TX HMFA
Houston-Baytown-Sugar Land, TX HMFA
Island County, WA | 1.045 | 1.041
Kankakee-Bradley, IL MSA | 1.011 | 1.027
Kansas City, MO-KS MSA | 1.013 | 1.008
Metropolitan Area Components:
Bates County, MO HMFA
Franklin County, KS HMFA
Kansas City, MO-KS HMFA
Lenawee County, MI | 1.048 | 1.024
Los Angeles-Long Beach-Santa Ana, CA MSA | 1.066 | 1.057
Metropolitan Area Components:
Los Angeles-Long Beach, CA HMFA
Orange County, CA HMFA
Manchester-Nashua, NH MSA | 1.034 | 1.004
Metropolitan Area Components:
Hillsborough County, NH (part) HMFA
Manchester, NH HMFA
Nashua, NH HMFA
Miami-Fort Lauderdale-Pompano Beach, FL MSA | 1.090 | 1.070
Metropolitan Area Components:
Fort Lauderdale, FL HMFA
Miami-Miami Beach-Kendall, FL HMFA
West Palm Beach-Boca Raton, FL HMFA
Milwaukee-Waukesha-West Allis, WI MSA | 1.021 | 1.011
Minneapolis-St. Paul-Bloomington, MN-WI MSA | 1.000 | 1.000
Monroe, MI MSA | 1.046 | 1.026
Napa, CA MSA | 1.025 | 1.014
New Haven-Milford, CT MSA | 1.055 | 1.048
Metropolitan Area Components:
Milford-Ansonia-Seymour, CT HMFA
New Haven-Meriden, CT HMFA
Waterbury, CT HMFA
New York-Northern New Jersey-Long Island, NY-NJ-PA MSA | 1.054 | 1.048
Metropolitan Area Components:
Bergen-Passaic, NJ HMFA
Jersey City, NJ HMFA
Middlesex-Somerset-Hunterdon, NJ HMFA
Monmouth-Ocean, NJ HMFA
Nassau-Suffolk, NY HMFA
New York, NY HMFA
Newark, NJ HMFA
Pike County, PA HMFA
Westchester County, NY Statutory Exception Area
Ocean City, NJ MSA | 1.059 | 1.030
Olympia, WA MSA | 1.044 | 1.041
Oxnard-Thousand Oaks-Ventura, CA MSA | 1.065 | 1.057
Philadelphia-Camden-Wilmington, PA-NJ-DE-MD MSA | 1.055 | 1.031
Phoenix-Mesa-Scottsdale, AZ MSA | 1.043 | 1.043
Pittsburgh, PA MSA | 1.041 | 1.029
Metropolitan Area Components:
Armstrong County, PA HMFA
Pittsburgh, PA HMFA
Portland-Vancouver-Beaverton, OR-WA MSA | 1.029 | 1.025
Poughkeepsie-Newburgh-Middletown, NY MSA | 1.055 | 1.048
Racine, WI MSA | 1.022 | 1.011
Riverside-San Bernardino-Ontario, CA MSA | 1.070 | 1.057
Salem, OR MSA | 1.029 | 1.025
San Diego-Carlsbad-San Marcos, CA MSA | 1.041 | 1.036
San Francisco-Oakland-Fremont, CA MSA | 1.024 | 1.014
Metropolitan Area Components:
Oakland-Fremont, CA HMFA
San Francisco, CA HMFA
San Jose-Sunnyvale-Santa Clara, CA MSA | 1.023 | 1.014
Metropolitan Area Components:
San Benito County, CA HMFA
San Jose-Sunnyvale-Santa Clara, CA HMFA
Santa Cruz-Watsonville, CA MSA | 1.028 | 1.014
Santa Rosa-Petaluma, CA MSA | 1.027 | 1.014
Seattle-Tacoma-Bellevue, WA MSA | 1.044 | 1.041
Metropolitan Area Components:
Seattle-Bellevue, WA HMFA
Tacoma, WA HMFA
St. Louis, MO-IL MSA | 1.040 | 1.018
Metropolitan Area Components:
Bond County, IL HMFA
Macoupin County, IL HMFA
St. Louis, MO-IL HMFA
Washington County, MO HMFA
Tampa-St. Petersburg-Clearwater, FL MSA | 1.067 | 1.059
Trenton-Ewing, NJ MSA | 1.054 | 1.048
Vallejo-Fairfield, CA MSA | 1.027 | 1.014
Vineland-Millville-Bridgeton, NJ MSA | 1.061 | 1.029
Washington-Arlington-Alexandria, DC-VA-MD-WV MSA | 1.051 | 1.047
Metropolitan Area Components:
Jefferson County, WV HMFA
Warren County, VA HMFA
Washington-Arlington-Alexandria, DC-VA-MD HMFA
Worcester, MA MSA | 1.038 | 1.002
Metropolitan Area Components:
Eastern Worcester County, MA HMFA
Fitchburg-Leominster, MA HMFA
Western Worcester County, MA HMFA
Worcester, MA HMFA

Schedule C—Table 2.—2008 Contract Rent AAFS
| Highest cost utility: Included | Highest cost utility: Excluded
Midwest Region | 1.010 | 1.000
Northeast Region | 1.038 | 1.018
South Region | 1.040 | 1.029
West Region | 1.035 | 1.027
Akron, OH MSA | 1.004 | 1.000
Anchorage, AK MSA | 1.028 | 1.010
Metropolitan Area Components:
Anchorage, AK HMFA
Matanuska-Susitna Borough, AK HMFA
Ann Arbor, MI MSA | 1.030 | 1.018
Ashtabula County, OH | 1.006 | 1.000
Atlanta-Sandy Springs-Marietta, GA MSA | 1.005 | 1.002
Metropolitan Area Components:
Atlanta-Sandy Springs-Marietta, GA HMFA
Butts County, GA HMFA
Haralson County, GA HMFA
Lamar County, GA HMFA
Meriwether County, GA HMFA
Atlantic City, NJ MSA | 1.046 | 1.021
Baltimore-Towson, MD MSA | 1.042 | 1.036
Metropolitan Area Components:
Baltimore-Towson, MD HMFA
Columbia City, MD HMFA
Boston-Cambridge-Quincy, MA-NH MSA | 1.023 | 1.000
Metropolitan Area Components:
Boston-Cambridge-Quincy, MA-NH HMFA
Brockton, MA HMFA
Lawrence, MA-NH HMFA
Lowell, MA HMFA
Portsmouth-Rochester, NH HMFA
Western Rockingham County, NH HMFA
Boulder, CO MSA | 1.000 | 1.000
Bremerton-Silverdale, WA MSA | 1.034 | 1.031
Bridgeport-Stamford-Norwalk, CT MSA | 1.044 | 1.038
Metropolitan Area Components:
Bridgeport, CT HMFA
Danbury, CT HMFA
Stamford-Norwalk, CT HMFA
Chicago-Naperville-Joliet, IL-IN-WI MSA | 1.004 | 1.016
Metropolitan Area Components:
Chicago-Naperville-Joliet, IL HMFA
DeKalb County, IL HMFA
Gary, IN HMFA
Grundy County, IL HMFA
Jasper County, IN HMFA
Kendall County, IL HMFA
Kenosha County, WI HMFA
Cincinnati-Middletown, OH-KY-IN MSA | 1.047 | 1.017
Metropolitan Area Components:
Brown County, OH HMFA
Cincinnati-Middleton, OH-KY-IN HMFA
Grant County, KY HMFA
Cleveland-Elyria-Mentor, OH MSA | 1.004 | 1.000
Dallas-Fort Worth-Arlington, TX MSA | 1.027 | 1.005
Metropolitan Area Components:
Dallas, TX HMFA
Fort Worth-Arlington, TX HMFA
Wise County, TX HMFA
Denver-Aurora, CO MSA | 1.000 | 1.000
Detroit-Warren-Livonia, MI MSA | 1.033 | 1.016
Metropolitan Area Components:
Detroit-Warren-Livonia, MI HMFA
Livingston County, MI HMFA
Flint, MI MSA | 1.038 | 1.015
Greeley, CO MSA | 1.000 | 1.000
HAWAII | 1.095 | 1.092
Hagerstown-Martinsburg, MD-WV MSA | 1.043 | 1.036
Metropolitan Area Components:
Hagerstown, MD HMFA
Martinsburg, WV HMFA
Henderson County, TX | 1.037 | 1.004
Houston-Sugar Land-Baytown, TX MSA | 1.052 | 1.004
Metropolitan Area Components:
Austin County, TX HMFA
Brazoria County, TX HMFA
Houston-Baytown-Sugar Land, TX HMFA
Island County, WA | 1.035 | 1.031
Kankakee-Bradley, IL MSA | 1.001 | 1.017
Kansas City, MO-KS MSA | 1.003 | 1.000
Metropolitan Area Components:
Bates County, MO HMFA
Franklin County, KS HMFA
Kansas City, MO-KS HMFA
Lenawee County, MI | 1.038 | 1.014
Los Angeles-Long Beach-Santa Ana, CA MSA | 1.056 | 1.047
Metropolitan Area Components:
Los Angeles-Long Beach, CA HMFA
Orange County, CA HMFA
Manchester-Nashua, NH MSA | 1.024 | 1.000
Metropolitan Area Components:
Hillsborough County, NH (part) HMFA
Manchester, NH HMFA
Nashua, NH HMFA
Miami-Fort Lauderdale-Pompano Beach, FL MSA | 1.080 | 1.060
Metropolitan Area Components:
Fort Lauderdale, FL HMFA
Miami-Miami Beach-Kendall, FL HMFA
West Palm Beach-Boca Raton, FL HMFA
Milwaukee-Waukesha-West Allis, WI MSA | 1.011 | 1.001
Minneapolis-St. Paul-Bloomington, MN-WI MSA | 1.000 | 1.000
Monroe, MI MSA | 1.036 | 1.016
Napa, CA MSA | 1.015 | 1.004
New Haven-Milford, CT MSA | 1.045 | 1.038
Metropolitan Area Components:
Milford-Ansonia-Seymour, CT HMFA
New Haven-Meriden, CT HMFA
Waterbury, CT HMFA
New York-Northern New Jersey-Long Island, NY-NJ-PA MSA | 1.044 | 1.038
Metropolitan Area Components:
Bergen-Passaic, NJ HMFA
Jersey City, NJ HMFA
Middlesex-Somerset-Hunterdon, NJ HMFA
Monmouth-Ocean, NJ HMFA
Nassau-Suffolk, NY HMFA
New York, NY HMFA
Newark, NJ HMFA
Pike County, PA HMFA
Westchester County, NY Statutory Exception Area
Ocean City, NJ MSA | 1.049 | 1.020
Olympia, WA MSA | 1.034 | 1.031
Oxnard-Thousand Oaks-Ventura, CA MSA | 1.055 | 1.047
Philadelphia-Camden-Wilmington, PA-NJ-DE-MD MSA | 1.045 | 1.021
Phoenix-Mesa-Scottsdale, AZ MSA | 1.033 | 1.033
Pittsburgh, PA MSA | 1.031 | 1.019
Metropolitan Area Components:
Armstrong County, PA HMFA
Pittsburgh, PA HMFA
Portland-Vancouver-Beaverton, OR-WA MSA | 1.019 | 1.015
Poughkeepsie-Newburgh-Middletown, NY MSA | 1.045 | 1.038
Racine, WI MSA | 1.012 | 1.001
Riverside-San Bernardino-Ontario, CA MSA | 1.060 | 1.047
Salem, OR MSA | 1.019 | 1.015
San Diego-Carlsbad-San Marcos, CA MSA | 1.031 | 1.026
San Francisco-Oakland-Fremont, CA MSA | 1.014 | 1.004
Metropolitan Area Components:
Oakland-Fremont, CA HMFA
San Francisco, CA HMFA
San Jose-Sunnyvale-Santa Clara, CA MSA | 1.013 | 1.004
Metropolitan Area Components:
San Benito County, CA HMFA
San Jose-Sunnyvale-Santa Clara, CA HMFA
Santa Cruz-Watsonville, CA MSA | 1.018 | 1.004
Santa Rosa-Petaluma, CA MSA | 1.017 | 1.004
Seattle-Tacoma-Bellevue, WA MSA | 1.034 | 1.031
Metropolitan Area Components:
Seattle-Bellevue, WA HMFA
Tacoma, WA HMFA
St. Louis, MO-IL MSA | 1.030 | 1.008
Metropolitan Area Components:
Bond County, IL HMFA
Macoupin County, IL HMFA
St. Louis, MO-IL HMFA
Washington County, MO HMFA
Tampa-St. Petersburg-Clearwater, FL MSA | 1.057 | 1.049
Trenton-Ewing, NJ MSA | 1.044 | 1.038
Vallejo-Fairfield, CA MSA | 1.017 | 1.004
Vineland-Millville-Bridgeton, NJ MSA | 1.051 | 1.019
Washington-Arlington-Alexandria, DC-VA-MD-WV MSA | 1.041 | 1.037
Metropolitan Area Components:
Jefferson County, WV HMFA
Warren County, VA HMFA
Washington-Arlington-Alexandria, DC-VA-MD HMFA
Worcester, MA MSA | 1.028 | 1.000
Metropolitan Area Components:
Eastern Worcester County, MA HMFA
Fitchburg-Leominster, MA HMFA
Western Worcester County, MA HMFA
Worcester, MA HMFA

Schedule C.—Contract Rent Annual Adjustment Factors—Area Definitions
| Counties/towns
ALABAMA (SOUTH)
All Counties in Alabama use the South Region AAF
ALASKA (WEST)
CPI AREAS:
Anchorage, AK MSA
Metropolitan Area Components:
Anchorage, AK HMFA | Anchorage.
Matanuska-Susitna Borough, AK HMFA | Matanuska-Susitna.
All other Boroughs use the West Region AAF
ARIZONA (WEST)
CPI AREAS:
Phoenix-Mesa-Scottsdale, AZ MSA | Maricopa, Pinal.
All other Counties use the West Region AAF
ARKANSAS (SOUTH)
All Counties in Arkansas use the South Region AAF
CALIFORNIA (WEST)
CPI AREAS:
Los Angeles-Long Beach-Santa Ana, CA MSA
Metropolitan Area Components:
Los Angeles-Long Beach, CA HMFA | Los Angeles.
Orange County, CA HMFA | Orange.
Napa, CA MSA | Napa.
Oxnard-Thousand Oaks-Ventura, CA MSA | Ventura.
Riverside-San Bernardino-Ontario, CA MSA | Riverside, San Bernardino.
San Diego-Carlsbad-San Marcos, CA MSA | San Diego.
San Francisco-Oakland-Fremont, CA MSA
Metropolitan Area Components:
Oakland-Fremont, CA HMFA | Alameda, Contra Costa.
San Francisco, CA HMFA | Marin, San Francisco, San Mateo.
San Jose-Sunnyvale-Santa Clara, CA MSA
Metropolitan Area Components:
San Benito County, CA HMFA | San Benito.
San Jose-Sunnydale-Santa Clara, CA HMFA | Santa Clara.
Santa Cruz-Watsonville, CA MSA | Santa Cruz.
Santa Rosa-Petaluma, CA MSA | Sonoma.
Vallejo-Fairfield, CA MSA | Solano.
All other Counties in California use the West Region AAF
COLORADO (WEST)
CPI AREAS:
Boulder, CO MSA | Boulder.
Denver-Aurora, CO MSA | Adams, Arapahoe, Broomfield, Clear Creek, Denver, Douglas, Elbert, Gilpin, Jefferson, Park.
Greeley, CO MSA | Weld.
All other Counties in Colorado use the West Region AAF
CONNECTICUT (NORTHEAST)
CPI AREAS:
Bridgeport-Stamford-Norwalk, CT MSA
Metropolitan Area Components:
Bridgeport, CT HMFA | Fairfield County towns of Bridgeport, Easton, Fairfield, Monroe, Shelton, Stratford, Trumbull.
Danbury, CT HMFA | Fairfield County towns of Bethel, Brookfield, Danbury, New Fairfield, Newtown, Redding, Ridgefield, Sherman.
Stamford-Norwalk, CT HMFA | Fairfield County towns of Darien, Greenwich, New Canaan, Norwalk, Stamford, Weston, Westport, Wilton.
New Haven-Milford, CT MSA
Metropolitan Area Components:
Milford-Ansonia-Seymour, CT HMFA | New Haven County towns of Ansonia, Beacon Falls, Derby, Milford, Oxford, Seymour.
New Haven-Meriden, CT HMFA | New Haven County towns of Bethany, Branford, Cheshire, East Haven, Guilford, Hamden, Madison, Meriden, New Haven, North Branford, North Haven, Orange, Wallingford, West Haven, Woodbridge.
Waterbury, CT HMFA | New Haven County towns of Middlebury, Naugatuck, Prospect, Southbury, Waterbury, Wolcott.
All other Counties/Towns in Connecticut use the Northeast Region AAF
DELAWARE (SOUTH)
CPI AREAS:
Philadelphia-Camden-Wilmington, PA-NJ-DE-MD MSA | New Castle.
All other Counties in Delaware use the South Region AAF
DIST. OF COLUMBIA (SOUTH)
CPI AREAS:
Washington-Arlington-Alexandria, DC-VA-MD HMFA | District of Columbia.
FLORIDA (SOUTH)
CPI AREAS:
Miami-Fort Lauderdale-Pompano Beach, FL MSA:
Metropolitan Area Components:
Fort Lauderdale, FL HMFA | Broward.
Miami-Miami Beach-Kendall, FL HMFA | Miami-Dade.
West Palm Beach-Boca Raton, FL HMFA | Palm Beach.
Tampa-St. Petersburg-Clearwater, FL MSA | Hernando, Hillsborough, Pasco, Pinellas.
All other Counties in Florida use the South Region AAF
GEORGIA (SOUTH)
CPI AREAS:
Atlanta-Sandy Springs-Marietta, GA MSA
Metropolitan Area Components:
Atlanta-Sandy Springs-Marietta, GA HMFA | Barrow, Bartow, Carroll, Cherokee, Clayton, Cobb, Coweta, Dawson, DeKalb, Douglas, Fayette, Forsyth, Fulton, Gwinnett, Heard, Henry, Jasper, Newton, Paulding, Pickens, Pike, Rockdale, Spalding, Walton.
Butts County, GA HMFA | Butts.
Haralson County, GA HMFA | Haralson.
Lamar County, GA HMFA | Lamar.
Meriwether County, GA HMFA | Meriwether.
All other Counties in Georgia use the South Region AAF
HAWAII (WEST)
CPI AREAS:
STATE Hawaii | Hawaii, Honolulu, Kalawao, Kauai, Maui.
IDAHO (WEST)
All Counties in Idaho use the West Region AAF
ILLINOIS (MIDWEST)
CPI AREAS:
Chicago-Naperville-Joliet, IL-IN-WI MSA
Metropolitan Area Components:
Chicago-Naperville-Joliet, IL HMFA | Cook, DuPage, Kane, Lake, McHenry, Will.
De Kalb County, IL HMFA | DeKalb.
Grundy County, IL | Grundy.
Kendall County, IL | Kendall.
Kankakee-Bradley, IL MSA | Kankakee.
St. Louis, MO-IL MSA
Metropolitan Area Components:
Bond County, IL HMFA | Bond.
Macoupin County, IL HMFA | Macoupin.
St. Louis, MO-IL HMFA | Calhoun, Clinton, Jersey, Madison, Monroe, St. Clair.
All other Counties in Illinois use the Midwest Region AAF
INDIANA (MIDWEST)
CPI AREAS:
Chicago-Naperville-Joliet, IL-IN-WI MSA
Metropolitan Area Components:
Gary, IN HMFA | Lake, Newton, Porter.
Jasper County, IN MFA | Jasper.
Cincinnati-Middleton, OH-KY-IN HMFA | Dearborn, Franklin, Ohio.
All other Counties in Indiana use the Midwest Region AAF
IOWA (MIDWEST)
All Counties in Iowa use the Midwest Region AAF
KANSAS (MIDWEST)
CPI AREAS:
Kansas City, MO-KS MSA
Metropolitan Area Components:
Franklin County, KS HMFA | Franklin.
Kansas City, MO-KS HMFA | Johnson, Leavenworth, Linn, Miami, Wyandotte.
All other Counties in Kansas use the Midwest Region AAF
KENTUCKY (SOUTH)
CPI AREAS:
Cincinnati-Middleton, OH-KY-IN MSA
Metropolitan Area Components:
Cincinnati-Middleton OH-KY-IN HMFA | Boone, Bracken, Campbell, Gallatin, Kenton, Pendleton.
Grant County, KY HMFA | Grant.
All other Counties in Kentucky use the South Region AAF
LOUISIANA (SOUTH)
All Parishes in Louisiana use the South Region AAF
MAINE (NORTHEAST)
All Counties in Maine use the Northeast Region AAF
MARYLAND (SOUTH)
CPI AREAS:
Baltimore-Towson, MD MSA
Metropolitan Area Components:
Baltimore-Towson, MD HMFA | Anne Arundel, Baltimore, Carroll, Harford, Howard, Queen Anne's, Baltimore city.
Columbia City, MD MSA
Hagerstown-Martinsburg, MD-WV MSA | Washington.
Washington-Arlington-Alexandria, DC-VA-MD HMFA | Calvert, Charles, Frederick, Montgomery, Prince George's.
Philadelphia-Camden-Wilmington, PA-NJ-DE-MD MSA | Cecil.
All other Counties in Maryland use the South AAF
MASSACHUSETTS (NORTHEAST)
CPI AREAS:
Boston-Cambridge-Quincy, MA-NH MSA
Metropolitan Area Components:
Boston-Cambridge-Quincy, MA-NH HMFA | Essex County towns of Amesbury, Beverly city, Danvers, Essex, Gloucester city, Hamilton, Ipswich, Lynn city, Lynnfield, Manchester-by-the-Sea, Marblehead, Middleton, Nahant, Newbury, Newburyport city, Peabody city, Rockport, Rowley, Salem city, Salisbury, Saugus, Swampscott, Topsfield, Wenham.
| Middlesex County towns of Acton, Arlington, Ashby, Ashland, Ayer, Bedford, Belmont, Boxborough, Burlington, Cambridge city, Carlisle, Concord, Everett city, Framingham, Holliston, Hopkinton, Hudson, Lexington, Lincoln, Littleton, Malden city, Marlborough city, Maynard, Medford city, Melrose city, Natick, Newton city, North Reading, Reading, Sherborn, Shirley, Somerville, Stoneham, Stow, Sudbury, Townsend, Wakefield, Waltham city, Watertown city, Wayland, Weston, Wilmington, Winchester, Woburn city.
| Norfolk County towns of Bellingham, Braintree, Brookline, Canton, Cohasset, Dedham, Dover, Foxborough, Franklin city, Holbrook, Medfield, Medway, Millis, Milton, Needham, Norfolk, Norwood, Plainville, Quincy city, Randolph, Sharon, Stoughton, Walpole, Wellesley, Westwood, Weymouth, Wrentham.
Boston-Cambridge-Quincy, MA-NH MSA
Metropolitan Area Components:
Boston-Cambridge-Quincy, MA-NH HMFA | Plymouth County towns of Carver, Duxbury, Hanover, Hingham, Hull, Kingston, Marshfield, Norwell, Pembroke, Plymouth, Rockland, Scituate, Wareham.
| Suffolk county towns of Boston city, Chelsea city, Revere city, Winthrop.
Brockton, MA HMFA | Norfolk County town of Avon.
| Plymouth County towns of Abington, Bridgewater, Brockton city, East Bridgewater, Halifax, Hanson, Lakeville, Marion, Mattapoisett, Middleborough, Plympton, Rochester, West Bridgewater town, Whitman.
Lawrence, MA-NH HMFA | Essex County towns of Andover, Boxford, Georgetown, Groveland, Haverhill city, Lawrence city, Merrimac, Methuen city, North Andover, West Newbury.
Lowell, MA HMFA | Middlesex County town of Billerica, Chelmsford, Dracut, Dunstable, Groton, Lowell city, Pepperell, Tewksbury, Tyngsborough, Westford.
Worcester, MA MSA
Metropolitan Area Components:
Eastern Worcester County, MA HMFA | Worcester County towns of Berlin, Blackstone, Bolton, Harvard, Hopedale, Lancaster, Mendon, Milford, Millville, Southborough, Upton.
Fitchburg-Leominster, MA HMFA | Worcester County towns of Ashburnham, Fitchburg, Gardner, Leominster, Lunenburg, Templeton, Westminster, Winchendon.
Western Worcester County, MA HMFA | Worcester County towns of Athol, Hardwick, Hubbardston, New Braintree, Petersham, Phillipston, Royalston, Warren.
Worcester, MA HMFA | Worcester County towns of Auburn, Barre, Boylston, Brookfield, Charlton, Clinton, Douglas, Dudley, East Brookfield, Grafton, Holden, Leicester, Millbury, Northborough, Northbridge, North Brookfield, Oakham, Oxford, Paxton, Princeton, Rutland, Shrewsbury, Southbridge, Spencer, Sterling, Sturbridge, Sutton, Uxbridge, Webster, Westborough, West Boylston, West Brookfield, Worcester.
All other Counties/Towns in Massachusetts use the Northeast Region AAF
MICHIGAN (MIDWEST)
CPI AREAS:
Ann Arbor, MI MSA | Washtenaw.
Detroit-Warren-Livonia, MI MSA
Metropolitan Area Components:
Detroit-Warren-Livonia, MI HMFA | Lapeer, Macomb, Oakland, St. Clair, Wayne.
Livingston County, MI HMFA | Livingston.
Flint, MI MSA | Genesee.
Lenawee County, MI | Lenawee.
Monroe, MI MSA | Monroe.
All other Counties in Michigan use the Midwest Region AAF
MINNESOTA (MIDWEST)
CPI AREAS:
Minneapolis-St. Paul-Bloomington, MN-WI MSA | Anoka, Carver, Chisago, Dakota, Hennepin, Isanti, Ramsey, Scott, Sherburne, Washington, Wright.
All other Counties in Minnesota use the Midwest Region AAF
MISSISSIPPI (SOUTH)
All Counties in Mississippi use the South Region AAF
MISSOURI (MIDWEST)
CPI AREAS:
Kansas City, MO-KS MSA
Metropolitan Area Components:
Bates County, MO HMFA | Bates.
Kansas City, MO-KS HMFA | Caldwell, Cass, Clay, Clinton, Jackson, Lafayette, Platte, Ray.
St. Louis, MO-IL MSA
Metropolitan Area Components:
St. Louis, MO-IL HMFA | Sullivan city part of Crawford, Franklin, Jefferson, Lincoln, St. Charles, St. Louis, Warren, St. Louis city.
Washington County, MO HMFA | Washington.
All other Counties in Missouri (including the rest of Crawford County) use the Midwest Region AAF
MONTANA (WEST)
All Counties in Montana use the West Region AAF
NEBRASKA (MIDWEST)
All Counties in Nebraska use the Midwest Region AAF
NEVADA (WEST)
All Counties in Nevada use Midwest Region AAF
NEW HAMPSHIRE (NORTHEAST)
CPI AREAS:
Boston-Cambridge-Quincy, MA-NH MSA
Metropolitan Area Components:
Boston-Cambridge-Quincy, MA-NH HMFA | Rockingham County towns of Seabrook, South Hampton.
Lawrence, MA-NH HMFA | Rockingham County towns of Atkinson, Chester, Danville, Derry, Fremont, Hampstead, Kingston, Newton, Plaistow, Raymond, Salem, Sandown, Windham.
Portsmouth-Rochester, NH HMFA | Rockingham County towns of Brentwood, East Kingston, Epping, Exeter, Greenland, Hampton, Hampton Falls, Kensington, New Castle, Newfields, Newington, Newmarket, North Hampton, Portsmouth, Rye, Stratham.
| Strafford County towns of Barrington, Dover, Durham, Farmington, Lee, Madbury, Middleton, Milton, New Durham, Rochester, Rollinsford, Somersworth, Strafford.
Western Rockingham County, NH HMFA | Rockingham County towns of Auburn, Candia, Deerfield, Londonderry, Northwood, Nottingham.
Manchester-Nashua, NH MSA
Metropolitan Area Components:
Hillsborough County, NH (part) HMFA | Hillsborough County towns of Antrim, Bennington, Deering, Francestown, Greenfield, Hancock, Hillsborough, Lyndeborough, New Boston, Peterborough, Sharon, Temple, Windsor.
Manchester, NH HMFA | Hillsborough County towns of Bedford, Goffstown, Manchester, Weare.
Nashua, NH HMFA | Hillsborough County towns of Amherst, Brookline, Greenville, Hollis, Hudson, Litchfield, Mason, Merrimack, Milford, Mont Vernon, Nashua, New Ipswich, Pelham, Wilton.
All other Counties/Towns in New Hampshire use Northeast Region AAF
NEW JERSEY (NORTHEAST)
CPI AREAS:
Atlantic City, NJ MSA | Atlantic.
New York-Northern New Jersey-Long Island, NY-NJ-PA MSA
Metropolitan Area Components:
Bergen-Passaic, NJ HMFA | Bergen, Passaic.
Jersey City, NJ HMFA | Hudson.
Middlesex-Somerset-Hunterdon, NJ HMFA | Hunterdon, Middlesex, Somerset.
New York-Monmouth-Ocean, NY-NJ HMFA | Monmouth, Ocean.
Newark, NJ HMFA | Essex, Morris, Sussex, Union.
Ocean City, NJ MSA | Cape May.
Philadelphia-Camden-Wilmington, PA-NJ-DE-MD MSA | Burlington, Camden, Gloucester, Salem.
Trenton-Ewing, NJ MSA | Mercer.
Vineland-Millville-Bridgeton, NJ MSA | Cumberland.
Warren County uses the Northeast Region AAF
NEW MEXICO (WEST)
All Counties in New Mexico use the West Region AAF
NEW YORK (NORTHEAST)
CPI AREAS:
New York-Northern New Jersey-Long Island, NY-NJ-PA MSA
Metropolitan Area Components:
Nassau-Suffolk, NY HMFA | Nassau, Suffolk.
New York-Monmouth-Ocean, NY-NJ HMFA | Bronx, Kings, New York, Putnam, Queens, Richmond, Rockland.
Westchester County, NY HMFA | Westchester.
Poughkeepsie-Newburgh-Middletown, NY MSA | Dutchess, Orange.
All other Counties in New York use the Northeast Region AAF
NORTH CAROLINA (SOUTH)
All Counties in North Carolina use the South Region AAF
NORTH DAKOTA (MIDWEST)
All Counties in North Dakota use the Midwest Region AAF
OHIO (MIDWEST)
CPI AREAS:
Akron, OH MSA | Portage, Summit.
Ashtabula County, OH | Ashtabula.
Cincinnati-Middleton, OH-KY-IN MSA
Metropolitan Area Components:
Brown County, OH HMFA | Brown.
Cincinnati-Middleton OH-KY-IN HMFA | Butler, Clermont, Hamilton, Warren.
Cleveland-Elyria-Mentor, OH | Cuyahoga, Geauga, Lake, Lorain, Medina.
All other Counties in Ohio use the Midwest Region AAF
OKLAHOMA (SOUTH)
All Counties in Oklahoma use the South Region AAF
OREGON (WEST)
CPI AREAS:
Portland-Vancouver-Beaverton, OR-WA MSA | Clackamas, Columbia, Multnomah, Washington, Yamhill.
Salem, OR MSA | Marion, Polk.
All other Counties in Oregon use the West Region AAF
PENNSYLVANIA (NORTHEAST)
CPI AREAS:
New York-Northern New Jersey-Long Island, NY-NJ-PA MSA
Metropolitan Area Components:
Pike County, PA HMFA | Pike.
Philadelphia-Camden-Wilmington, PA-NJ-DE-MD MSA | Bucks, Chester, Delaware, Montgomery, Philadelphia.
Pittsburgh, PA MSA
Metropolitan Area Components:
Armstrong County, PA HMFA | Armstrong.
Pittsburgh, PA HMFA | Allegheny, Beaver, Butler, Fayette, Washington, Westmoreland.
All other Counties in Pennsylvania use the Northeast Region AAF
RHODE ISLAND (NORTHEAST)
All Counties/Towns in Rhode Island use the Northeast Region AAF
SOUTH CAROLINA (SOUTH)
All Counties in South Carolina use the South Region AAF
SOUTH DAKOTA (MIDWEST)
All Counties in South Dakota use the Midwest Region AAF
TENNESSEE (SOUTH)
All Counties in Tennessee use the South Region AAF
TEXAS (SOUTH)
CPI AREAS:
Dallas-Fort Worth-Arlington, TX MSA
Metropolitan Area Components:
Dallas, TX HMFA | Collin, Dallas, Delta, Denton, Ellis, Hunt, Kaufman, Rockwall.
Fort Worth-Arlington, TX HMFA | Johnson, Parker, Tarrant.
Wise County, TX HMFA | Wise.
Henderson County, TX | Henderson.
Houston-Sugar Land-Baytown, TX MSA
Metropolitan Area Components:
Austin, County, TX HMFA | Austin.
Brazoria County, TX HMFA | Brazoria.
Houston-Baytown-Sugar Land, TX HMFA | Chambers, Fort Bend, Galveston, Harris, Liberty, Montgomery, San Jacinto, Waller.
All other Counties in Texas use the South Region AAF
UTAH (WEST)
All Counties in Utah use the West Region AAF
VERMONT (NORTHEAST)
All Counties/Towns in Vermont use the Northeast Region AAF
VIRGINIA (SOUTH)
CPI AREAS:
Washington-Arlington-Alexandria, DC-VA-MD-WV MSA
Metropolitan Area Components:
Warren County, VA HMFA | Warren.
Washington-Arlington-Alexandria, DC-VA-MD HMFA | Arlington, Clarke, Fairfax, Fauquier, Loudoun, Prince William, Spotsylvania, Stafford, Alexandria city, Fairfax city, Falls Church city, Fredericksburg city, Manassas Park city, Manassas city.
All other Counties/Cities in Virginia use the South Region AAF
WASHINGTON (WEST)
CPI AREAS:
Bremerton-Silverdale, WA MSA | Kitsap.
Island County, WA | Island.
Olympia, WA MSA | Thurston.
Portland-Vancouver, OR-WA MSA | Clark, Skamania.
Seattle-Tacoma-Bellevue, WA MSA
Metropolitan Area Components:
Seattle-Bellevue, WA HMFA | King, Snohomish.
Tacoma, WA HMFA | Pierce.
All other Counties in Washington use the West Region AAF
WEST VIRGINIA (SOUTH)
CPI AREAS:
Hagerstown-Martinsburg, MD-WV MSA | Berkeley, Morgan.
Washington-Arlington-Alexandria, DC-VA-MD-WV MSA
Metropolitan Area Components:
Jefferson County, WV HMFA | Jefferson.
All other Counties in West Virginia use the South Region AAF
WISCONSIN (MIDWEST)
CPI AREAS:
Milwaukee-Waukesha-West Allis, WI MSA | Milwaukee, Ozaukee, Washington, Waukesha.
Minneapolis-St. Paul-Bloomington, MN-WI MSA | Pierce, St. Croix.
Racine, WI MSA | Racine.
All other areas of Wisconsin use the Midwest Region AAF
WYOMING (WEST)
All Counties in Wyoming use the West Region AAF
PACIFIC ISLANDS (WEST)
The American Samoa, Guam, Northern Mariana Islands, and Palau use the West Region AAF
PUERTO RICO (SOUTH)
All Municipios use the South Region AAF
VIRGIN ISLANDS (SOUTH)
The U.S. Virgin Islands uses the South Region AAF

[FR Doc. E8-934 Filed 1-18-08; 8:45 am]

BILLING CODE 4210-67-P